DEPARTMENT OF ENERGY

Federal Energy Regulatory Commission

Combined Notice of Filings

Take notice that the Commission has received the following Natural Gas Pipeline Rate and Refund Report filings:

Filings Instituting Proceedings

Docket Numbers: RP16-49-000.

Applicants: Centra Pipelines Minnesota Inc.

Description: § 4(d) Rate Filing: Updated Shipper Index Dec 2015 to be effective 12/1/2015.

Filed Date: 10/14/15.

Accession Number: 20151014-5079.

Comments Due: 5 p.m. ET 10/26/15.

Docket Numbers: RP16-50-000.

Applicants: Alliance Pipeline L.P.

Description: § 4(d) Rate Filing: October 15-31 2015 Auction to be effective 10/15/2015.

Filed Date: 10/14/15.

Accession Number: 20151014-5117.

Comments Due: 5 p.m. ET 10/26/15.

Docket Numbers: RP16-51-000.

Applicants: Cadeville Gas Storage LLC.

Description: § 4(d) Rate Filing: Cadeville Gas Storage—August 2015 Tariff Modifications to be effective 8/6/2015.

Filed Date: 10/14/15.

Accession Number: 20151014-5217.

Comments Due: 5 p.m. ET 10/26/15.

Docket Numbers: RP16-52-000.

Applicants: Gulf South Pipeline Company, LP.

Description: § 4(d) Rate Filing: Amendment to Neg Rate Agmt (Encana 37663 Rate Case Amendment-fuel) to be effective 10/15/2015.

Filed Date: 10/15/15.

Accession Number: 20151015-5095.

Comments Due: 5 p.m. ET 10/27/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2015.
Nathaniel J. Davis, Sr.,
Deputy Secretary.

[FR Doc. 2015-26961 Filed 10-22-15; 8:45 am]

BILLING CODE 6717-01-P